SUSQUEHANNA RIVER BASIN COMMISSION

Public Hearing; Correction

AGENCY: Susquehanna River Basin Commission.

ACTION: Notice; correction.

SUMMARY: The Susquehanna River Basin Commission published a document in the Federal Register of January 23, 2012, concerning a public hearing to be held on February 16, 2012, in Harrisburg, Pennsylvania. The document contained an incorrect location for one of the projects listed in the Supplementary Information section of such notice.

FOR FURTHER INFORMATION CONTACT: Richard A. Cairo, General Counsel, telephone: (717) 238-0423, ext. 306; fax: (717) 238-2436; email: rcairo@srbc.net or Stephanie L. Richardson, Secretary to the Commission, telephone: (717) 238-0423, ext. 304; fax: (717) 238-2436; email: srichardson@srbc.net. Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Correction

In the Federal Register of January 23, 2012, in FR Doc. 77-14, on page 3323, in the second column, correct project no. 34 to read:

34. Project Sponsor and Facility: Water Treatment Solutions, LLC (South Mountain Lake), Woodward Township, Lycoming County, Pa. Application for surface water withdrawal of up to 0.499 mgd (peak day).

Authority: Pub. L. 91-575, 84 Stat. 1509 et seq., 18 CFR parts 806-808.

Dated: February 14, 2012.
Thomas W. Beauduy,
Deputy Executive Director.

[FR Doc. 2012-3890 Filed 2-17-12; 8:45 am]

BILLING CODE 7040-01-P